DEPARTMENT OF DEFENSE

Department of the Navy

[Docket ID USN-2013-0033]

Privacy Act of 1974; System of Records

AGENCY: Department of the Navy, DoD.

ACTION: Notice to alter a System of Records.

SUMMARY: The Department of the Navy proposes to alter the system of records, NM06150-6, Medical Readiness Reporting System (MRRS), in its inventory of record systems subject to the Privacy Act of 1974 (5 U.S.C. 552a), as amended. This system tracks medical readiness to ensure individuals are medically eligible to be deployed.

DATES: This proposed action will be effective on September 23, 2013 unless comments are received which result in a contrary determination. Comments will be accepted on or before September 23, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Web site at http://dpclo.defense.gov/privacy/SORNs/component/navy/index.html. The proposed system report, as required by 5 U.S.C. 552a(r) of the Privacy Act of 1974, as amended, was submitted on July 29, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: August 19, 2013.
Aaron Siegel,
Alternate OSD Federal Register Liaison Officer, Department of Defense.

NM06150-6

System name:

Medical Readiness Reporting System (MRRS) (January 28, 2013, 78 FR 5792).

Changes:

* * * * *

Categories of individuals covered by the system:

Delete entry and replace with “Active Duty and Reserve Air Force, Army, Coast Guard, Marine Corps and Navy Personnel.”

* * * * *

Authority for maintenance of the system:

Delete entry and replace with “10 U.S.C. 5013, Secretary of the Navy; 10 U.S.C. 5041, Headquarters, Marine Corps; BUMED Note 6110, Tracking and Reporting Individual Medical Readiness Data; SECNAVINST 6120.3, Secretary of the Navy Periodic Health Assessment for Individual Medical Readiness; Pub. L. 108-735, Section 731 Ronald Reagan National Defense Authorization Act, 10 U.S.C. 136(d), Under Secretary of Defense for Personnel; 10 U.S.C. 671, Members not to be assigned outside United States before completing training; DoD 6025.18-R, DoD Health Information Privacy Regulation; and E.O. 9397 (SSN), as amended.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The DoD Blanket Routine Uses that appear at the beginning of the Navy's compilation of system of record notices may apply to this system.

Note: This system of records contains Individually Identifiable Health Information. The DoD Health Information Privacy Regulation (DoD 6025.18-R) issued pursuant to the Health Insurance Portability and Accountability Act of 1996, applies to most such health information. DoD 6025-18-R may place additional procedural requirements on the uses and disclosures of such information beyond those found in the Privacy Act of 1974 or mentioned in this system of records notice.”

* * * * *

System manager(s) and address:

Delete entry and replace with “For Air Force: MODS Technical Manager PMD/USAMITC 2720 Howitzer, Bldg 2372, Fort Sam Houston, TX 78234-5013.

For Army: DASG-Human Resources, Defense Health Headquarters, Falls Church, VA 22042-5140.

For Coast Guard: United States Coast Guard (USGC), Headquarters (CG-912), 2100 2nd Street SW., Suite 1100, Washington, DC 20593-0001.

For Marine Corps: Headquarters U.S. Marine Corps, PPO, PLN (National Plans Branch), 3000 Marine Corps Pentagon, Washington, DC 20350-3000.

For Navy: Commander, Navy Personnel Command (PERS-455), 5720 Integrity Drive, Millington, TN 38055-0455.”

* * * * *

[FR Doc. 2013-20548 Filed 8-22-13; 8:45 am]

BILLING CODE 5001-06-P